DEPARTMENT OF ENERGY

Agency Emergency Information Collection Reinstatement

AGENCY: U.S. Department of Energy.

ACTION: Submission for Office of Management and Budget (OMB) review; comment request.

SUMMARY: The Department of Energy (DOE) will be submitting an emergency information collection request to the OMB for reinstatement under the provisions of the Paperwork Reduction Act of 1995. The information collection requests a one hundred eighty (180) day approval of its Records and Administration, OMB Control Number 1910-1700. The proposed voluntary collection will request that an individual or an authorized designee provide pertinent information for easy record retrieval allowing for increased efficiencies and quicker processing. Pertinent information includes the requester's name, shipping address, phone number, email address, previous work location, the action requested and any identifying data that will help locate the records (maiden name, occupational license number, time and place of employment.

DATES: Comments regarding this collection must be received on or October 3, 2013. If you anticipate that you will be submitting comments, but find it difficult to do so within the period of time allowed by this notice, please advise the OMB Desk Officer of your intention to make a submission as soon as possible. The Desk Officer may be telephoned at 202-395-4718.

ADDRESSES: Written comments should be sent to: DOE Desk Officer, Office of Information and Regulatory Affairs, Office of Management and Budget, New Executive Office Building, Room 10102, 735 17th Street NW., Washington, DC 20503.

And to: Troy Manigault, Departmental Records Officer, Office of the Chief Information Officer, U.S. Department of Energy, 19901 Germantown Rd, Room G-312, Germantown, MD 20874, Phone: 301-903-9926 (Office), troy.manigault@hq.doe.gov.

FOR FURTHER INFORMATION CONTACT: TheAnne E. Gordon, Associate CIO for IT Planning, Architecture, and E-Government, Office of the Chief Information Officer, U.S. Department of Energy, 1000 Independence Ave. SW., Washington, DC 20585, 202-586-3705 (Office), theanne.gordon@hq.doe.gov.

SUPPLEMENTARY INFORMATION: This information collection request contains: (1) OMB No. 1910-1700; (2) Information Collection Request Title: Records and Administration; (3) Type of Request: Reinstatement; (4) Purpose: The Privacy Act Information Request Form assists the Department of Energy in processing privacy requests submitted by an individual or an authorized designee where-in he or she is requesting records the government may maintain on them. This form will increase efficiencies including, but not limited to quicker processing of privacy requests by asking individuals or their designees pertinent information for easy record retrieval; (5) Annual Estimated Number of Respondents: 135; (6) Annual Estimated Number of Total Responses: 135; (7) Annual Estimated Number of Burden Hours: 45 hrs; Annual Estimated Reporting and Recordkeeping Cost Burden: N/A

Statutory Authority: The Privacy Act of 1974, 5 U.S.C. 552(a), 10 CFR 1008.7, and DOE Order 206.1.

Issued in Washington, DC, on August 26, 2013.
TheAnne E. Gordon,
Associate CIO for IT Planning, Architecture and E-Government, Office of the Chief Information Officer.

[FR Doc. 2013-21344 Filed 8-30-13; 8:45 am]

BILLING CODE 6450-01-P